DEPARTMENT OF COMMERCE

Foreign-Trade Zones Board

(Docket 8-2006)

Foreign-Trade Zone 202—Los Angeles, CA, Application for Subzone, Sharp Electronics Corporation, (Office and Consumer Electronics/Home Products/Solar Panels Distribution), Huntington Beach, California

An application has been submitted to the Foreign-Trade Zones Board (the Board) by the Board of Harbor Commissioners of the City of Los Angeles, grantee of FTZ 202, requesting special-purpose subzone status for the office and consumer electronics/ home products/solar panels warehousing and distribution facility of Sharp Electronics Corporation (Sharp), in Huntington Beach, California. The application was submitted pursuant to the provisions of the Foreign-Trade Zones Act, as amended (19 U.S.C. 81a-81u), and the regulations of the Board (15 CFR part 400). It was formally filed on February 27, 2006.

The Sharp facility (939,800 sq. ft. of enclosed space on 23.4 acres) is located at 5901 Bolsa Avenue, Huntington Beach, California. The facility (97 employees) may be used under FTZ procedures for the testing, packaging, warehousing and distribution of consumer electronics/home products/solar panels. Sharp's application indicates that 5 percent of the merchandise handled at the facility is domestically-sourced and includes products manufactured at and transferred from Subzone No. 77A, Sharp Manufacturing Company of America's manufacturing facility in Memphis, Tennessee.

Zone procedures would exempt Sharp from Customs duty payments on foreign products that are re-exported. On domestic sales, the company would be able to defer payments until merchandise is shipped from the plant. The company would be able to avoid duty on foreign merchandise which becomes scrap/waste. Sharp also anticipates realizing significant logistical/procedural benefits. The application indicates that all of the above-cited savings from FTZ procedures would help improve the facility's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building - Suite 4100W, 1099 14th St. NW, Washington, D.C. 20005; or

2. Submissions Via the U.S. Postal Service: Foreign-Trade-Zones Board, U.S. Department of Commerce, FCB - Suite 4100W, 1401 Constitution Ave. NW, Washington, D.C. 20230.

The closing period for their receipt is May 12, 2006. Rebuttal comments in response to material submitted during the foregoing period may be submitted during the subsequent 15-day period (to May 30, 2006).

A copy of the application and accompanying exhibits will be available for public inspection at the Office of the Foreign-Trade Zones Board's Executive Secretary at address Number 1 listed above, and at the U.S. Department of Commerce Export Assistance Center, 3300 Irvine Avenue, Suite 305, Newport Beach, CA 92660.

Dated: March 3, 2006.
Dennis Puccinelli,
Executive Secretary.

[FR Doc. E6-3535 Filed 3-10-06; 8:45 am]

BILLING CODE 3510-DS-S